DEPARTMENT OF JUSTICE

Antitrust Division

Notice Pursuant to the National Cooperative Research and Production Act of 1993—Information Warfare Research Project Consortium

Notice is hereby given that, on January 28, 2025, pursuant to section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, Advanced Computer Concepts, Inc., McLean, VA; AERMOR LLC, Virginia Beach, VA; Ardent Management Consulting LLC, Vienna, VA; ATALO Solutions, Inc., Lutz, FL; Barrow Wise Consulting LLC, Rockville, MD; Boecore LLC, Colorado Springs, CO; Broadleaf Services, Inc., Manassas, VA; Chugach Information Technology, Inc., Anchorage, AK; Cyber Sphere Data, Inc., Vista, CA; Gambit Defense, Inc., Valley Village, CA; ICR, Inc., Aurora, CO; Integrity Defense Solutions, Inc., Newport News, VA; Jackal Design LLC, Rochester, NY; Kinnami Software Corp., Braintree, MA; Lean Scaled Architects LLC, St. Petersburg, FL; Mackenzie Sloane LLP, Washington, DC; Mission Solutions Group, Inc., North Charleston, SC; MZA Associates Corp., Albuquerque, NM; NextGen Federal Systems LLC, Morgantown, WV; NUTS Technologies, Inc., Glencoe, IL; OCR Global, Inc., Chantilly, VA; Parry Labs LLC, Alexandria, VA; Rebel Space Technologies, Inc., Long Beach, CA; Salient CRGT, Inc., Fairfax, VA; St. Jardins, Inc., Brambleton, VA; Systems Analysis & Integration, Inc., Orange, CA; Thales Defense & Security, Inc., Clarksburg, MD; University of South Florida Institute of Applied Engineering, Inc., Tampa, FL; and Versar, Inc., Washington, DC, have been added as parties to this venture.

Also, Addx Corp., Alexandria, VA; Advantaged Solutions, Inc., Washington, DC; Agema Technology, Inc. Mission, Viejo, CA; Akira Technologies, Washington, DC; Alpine Method Technologies LLC, Aldie, VA; Altron, Inc., Mount Pleasant, SC; Armedia LLC, Vienna, VA; Assured Space Access Technologies, Inc., Chandler, AZ; AVATAR Computing, Inc., Worcester, MA; Caesar Creek Software, Miamisburg, OH; cBEYONData LLC, Arlington, VA; Constellation Software Engineering Corp. dba CS Engineering, Annapolis, MD; Cyber DI LLC, Great Falls, VA; Data Systems Analysts, Inc., Trevose, PA; Datalytica LLC, Laurel, MD; Dualos LLC, Tacoma, WA; Emerging Technology Ventures, Inc., Alamogordo, NM; Eridan Communications, Inc., Mountain View, CA; Foster-Miller, Inc. dba QinetiQ North America, Waltham, MA; Fuse AI, Inc., Washington, DC; G2 Ops, Inc., Virginia Beach, VA; Genuine Cable Group LLC Seacoast Division, Chesapeake, VA; Geocent LLC, Metairie, LA; HaloTech Solutions LLC, Charlotte, NC; IDEAMATICS, Inc.; McLean, VA; Immersion Consulting LLC, Annapolis, MD; ImmixGroups EC America, Inc., McLean, VA; Integrated Computer Solutions, Inc., Waltham, MA; IntelliSolutions, Inc., San Diego, CA; IQVIA Government Solutions, Inc., Falls Church, VA; JC3 LLC, Rockbridge Baths, VA; KSA Integration LLC, Stafford, VA; L-3 Communications Vertex Aerospace LLC, Madison, MS; Liberty Business Associates LLC, Ladson, SC; Liteye Systems, Inc., Centennial, CO; Motorola Solutions, Inc., Chicago, IL; Murano Corp., Research Triangle Park, NC; Mynaric USA, Inc., Hawthorne, VA; Netrist Solutions LLC, Charleston, SC; Novateur Research Solutions LLC, Ashburn, VA; PhasorLab, Inc., Billerica, MA; Pillar Global Solutions, Inc., Stafford, VA; ProModel Corp., Orem, UT; Raven Defense Corp., Albuquerque, NM; Saltenna, Mclean, VA; SAP National Security Services, Inc., Newtown Square, PA; SDA Solutions LLC, Triangle, VA; Signal Processing Technologies, Inc., Merrimack, NH; Sonalysts, Inc., Waterford, CT; Swift Star Technologies, Inc., Austin, TX; Swim.ai, Inc., Campbell, CA; Synergetics, Inc., Fort Collins, CO; Systems Engineering Group, Inc., Columbia, MD; TLC Solutions, Inc., St. Augustine, FL; Tomahawk Robotics, Inc., Melbourne, FL; Vergence LLC, Escondido, CA; Veritone, Inc., Costa Mesa, CA; VivSoft Technologies LLC, Brambleton, VA; Whitney Strategic Services LLC, New York, NY; and ZCTS LLC, Arlington, VA, have withdrawn as parties to this venture.

No other changes have been made in either the membership or planned activity of the group research project. Membership in this group research project remains open, and IWRP Consortium intends to file additional written notifications disclosing all changes in membership.

On October 15, 2018, IWRP Consortium filed its original notification pursuant to section 6(a) of the Act. The Department of Justice published a notice in the Federal Register pursuant to section 6(b) of the Act on October 23, 2018 (83 FR 53499).

The last notification was filed with the Department on October 16, 2024. A notice was published in the Federal Register pursuant to section 6(b) of the Act on January 24, 2025 (90 FR 8144).

Suzanne Morris,
Deputy Director Civil Enforcement Operations, Antitrust Division.

[FR Doc. 2025-03204 Filed 2-27-25; 8:45 am]

BILLING CODE P